ENVIRONMENTAL PROTECTION AGENCY

[FRL-8926-2]

New York State Prohibition of Marine Discharges of Vessel Sewage; Receipt of Petition and Tentative Affirmative Determination

AGENCY: Environmental Protection Agency (EPA).

ACTION: Notice.

SUMMARY: Notice is hereby given that a petition has been received from the State of New York requesting a determination by the Regional Administrator, U.S. Environmental Protection Agency—Region 2, that adequate facilities for the safe and sanitary removal and treatment of sewage from all vessels are reasonably available for the South Shore Estuary Reserve, New York. The waters of the proposed No Discharge Zone fall within the jurisdictions of the Town of Southampton, the Town of Brookhaven, the Town of Islip, the Town of Babylon, the Town of Oyster Bay and the Town of Hempstead. The entities submitted an application prepared by the Peconic Baykeeper for the designation of a Vessel Waste No Discharge Zone. New York State Department of Environmental Conservation certified the need for greater protection of the water quality.

DATES: Comments regarding this tentative determination are due by August 5, 2009.

ADDRESSES: Submit your comments using one of the following methods:

E-mail: chang.moses@epa.gov.

Fax: (212) 637-3891.

Mail and hand delivery: U.S. Environmental Protection Agency—Region 2, 290 Broadway, 24th Floor, New York, NY 10007-1866. Deliveries are only accepted during the Regional Office's normal hours of operation (8 a.m.-5 p.m., Monday through Friday, excluding legal holidays), and special arrangements should be made for deliveries of boxed information.

FOR FURTHER INFORMATION CONTACT: Moses Chang, U.S. Environmental Protection Agency—Region 2, 290 Broadway, 24th Floor, New York, NY 10007-1866. Telephone: (212) 637-3867, Fax number: (212) 637-3891; e-mail address: chang.moses@epa.gov.

SUPPLEMENTARY INFORMATION: Notice is hereby given that a petition has been received from the State of New York requesting a determination by the Regional Administrator, U.S. Environmental Protection Agency—Region 2, pursuant to section 312(f)(3) of Public Law 92-500 as amended by Public Law 95-217 and Public Law 100-4, that adequate facilities for the safe and sanitary removal and treatment of sewage from all vessels are reasonably available for South Shore Estuary Reserve (SSER) and its harbors, bays and creeks within the following boundaries:

East Rockaway Inlet, approach to Reynolds Channel, flashing green buoy (N “9”)

N40°-35.5′

W73°-44.9′

Jones Inlet, Jones Inlet red buoy (N “8”)

N40°-35.2′

W73°-34.3′

Fire Island Inlet, Fire Island Inlet flashing red buoy (N “10”)

N40°-37.5′

W73°-17.9′

Moriches Inlet, flashing red tower on east jetty terminus

N40°-45.8′

W72°-45.3′

Shinnecock Inlet, flashing green tower on west jetty terminus

N40°-50.2′

W72°-28.7′

The SSER encompasses 110,720 acres of open water and intertidal area. The waterbodies included in the SSER are Shinnecock Bay (East and West), Quantuck Bay, Moriches Bay (East and West), Bellport Bay, Patchogue Bay, Nicoll Bay, Great South Bay (West, East and Great Cove), South Oyster Bay, East Bay Complex, Middle Bay Complex and Western South Shore Bay.

New York has provided documentation indicating the SSER vessel population and the number of pumpouts for each embayment. Shinnecock Bay—East is serviced by 3 pumpouts and has a vessel population of 864 (288 vessels per pumpout). Shinnecock Bay—West is serviced by 1pumpout and has a vessel population of 1841 (1841 vessels per pumpout). Quantuck Bay is serviced by 1 pumpout and has a vessel population of 363 (363 vessels per pumpout). Moriches Bay—East is serviced by 2 pumpouts and has a vessel population of 951 (476 vessels per pumpout). Moriches Bay—West is serviced by 5 pumpouts and has a vessel population of 1829 (366 vessels per pumpout). Bellport Bay is serviced by 2 pumpouts and has a vessel population of 336 (168 vessels per pumpout). Patchogue Bay is serviced by 11 pumpouts and has a vessel population of 2814 (256 vessels per pumpout). Nicoll Bay is serviced by 6 pumpouts and has a vessel population of 1765 (294 vessels per pumpout). Great South Bay—East and Great Cove is serviced by 7 pumpouts and has a vessel population of 1810 (259 vessels per pumpout). Great South Bay—West is serviced by 12 pumpouts and has a vessel population of 5066 (422 vessels per pumpout). South Oyster Bay is serviced by 5 pumpouts and has a vessel population of 1453 (291 vessels per pumpout). East Bay Complex is serviced by 4 pumpouts and has a vessel population of 747 (187 vessels per pumpout). Middle Bay Complex is serviced by 8 pumpouts and has a vessel population of 3392 (424 vessels per pumpout). Western South Shore Bay is serviced by 2 pumpouts and has a vessel population of 705 (352 vessels per pumpout).

The criterion established by the Clean Vessel Act regarding an adequate number of pumpouts per vessel population is 1 pumpout per 300—600 vessels. All areas of the SSER meet or exceed this criterion with the exception of Shinnecock Bay—West, which has one pumpout per 1841vessels. When facilities in this embayment are added to facilities in the adjacent waters (Shinnecock Bay—East and Quantuck Bay) a total of 5 pumpouts service a vessel population of 2492. The ratio is one pumpout per 498 vessels, which meets the criterion.

The facilities located in the Shinnecock Bay—East are as follows:

Name: Sherry and Joe Corrs Best Boat Works.

Lat/Long: N40.97938 W72.43858.

Phone: 631-283-7359.

VHF Channel: N/A.

Dates of Operation: Spring—Summer.

Hours of Operation: 9 a.m.—5 p.m.

Fee: $5.

Vessel Limitation Length/Draught: None/4.5 feet.

Method of Sewage Disposal: Private contractor.

Name: Shinnecock Canal County Marina.

Lat/Long: N40.884444 W72.501944.

Phone: 631-852-8291 or 631-852-8899.

VHF Channel: N/A.

Dates of Operation: April 1-October 31.

Hours of Operation: 24 hours.

Fee: Free.

Vessel Limitation Length/Draught: 60 feet/8feet.

Method of Sewage Disposal: Holding tank pumped out by septic truck.

Name: Southampton Town Pumpout Boat.

Lat/Long: N/A.

Phone: 631-283-6000.

VHF Channel: 73.

Dates of Operation: April-November.

Hours of Operation: 8 a.m.-5 p.m.

Fee: Free.

Vessel Limitation Length/Draught: N/A.

Method of Sewage Disposal: Pumps out at Shinnecock Canal County Marina.

The facility servicing Quantuck Bay, Shinnecock Bay—West and Moriches Bay—East is as follows:

Name: Southampton Town Pumpout Boat.

Lat/Long: N/A.

Phone: 631-283-6000.

VHF Channel: 73.

Dates of Operation: April-November.

Hours of Operation: 8 a.m.-5 p.m.

Fee: Free.

Vessel Limitation Length/Draught: N/A.

Method of Sewage Disposal: Pumps out at Shinnecock Canal County Marina.

The facility located in Moriches Bay—East is as follows:

Name: Remsenburg Marina.

Lat/Long: N40.8157 W72.72324.

Phone: 631-325-1677.

VHF Channel: N/A.

Dates of Operation: April 1-November 1, 7 days a week.

Hours of Operation: 8 a.m.-5 p.m.

Fee: $5.

Vessel Limitation Length/Draught: 45 feet/4 feet.

Method of Sewage Disposal: Waste emptied and disposed of by contractor.

The facilities located in Moriches Bay—West are as follows:

Name: Windswept Marina.

Lat/Long: N40.791389 W72.753333.

Phone: 631-878-2100.

VHF Channel: N/A.

Dates of Operation: April 1-November 1.

Hours of Operation: 8 a.m.-5 p.m.

Fee: Free.

Vessel Limitation Length/Draught: 45 feet/6 feet.

Method of Sewage Disposal: Waste emptied and disposed of by contractor.

Name: Senix Marina.

Lat/Long: N40.795 W72.805833.

Phone: 631-874-2092.

VHF Channel: N/A.

Dates of Operation: April 1-November 1.

Hours of Operation: 8 a.m.-5 p.m.

Fee: $5.

Vessel Limitation Length/Draught: 45 feet/4 feet.

Method of Sewage Disposal: Waste emptied and disposed of by contractor.

Name: Waterways Marina.

Lat/Long: N40.78756 W72.81813.

Phone: 631-874-8066.

VHF Channel: N/A.

Dates of Operation: March 15-November 15.

Hours of Operation: 8 a.m.-4 p.m.

Fee: Free.

Vessel Limitation Length/Draught: 60 feet/4 feet.

Method of Sewage Disposal: Pumped into sewage treatment plant.

Name: Brookhaven Town Marina.

Lat/Long: N40.80199 W72.83084.

Phone: 631-395-3993.

VHF Channel: N/A.

Dates of Operation: April 1-November 1.

Hours of Operation: 8 a.m.-5 p.m.

Fee: $5.

Vessel Limitation Length/Draught: 45 feet/4 feet.

Method of Sewage Disposal: Waste emptied weekly and disposed of by contractor.

Name: Brookhaven Town Pumpout Boat.

Lat/Long: N/A.

Phone: N/A.

VHF Channel: 73.

Dates of Operation: April 1-November 1.

Hours of Operation: 8 a.m.-5 p.m.

Fee: $5.

Vessel Limitation Length/Draught: N/A.

Method of Sewage Disposal: Waste emptied and disposed of by contractor.

The facility located in Bellport Bay is as follows:

Name: Beaver Dam Boat Marina.

Lat/Long: N40.77222 W72.91778.

Phone: 631-286-7816.

VHF Channel: 73.

Dates of Operation: April 1-November 1.

Hours of Operation: 8 a.m.-5 p.m.

Fee: $5.

Vessel Limitation Length/Draught: 45 feet/4 feet.

Method of Sewage Disposal: Waste emptied and disposed of by contractor.

The facilities located in Patchogue Bay are as follows:

Name: Patchogue Shores Marina.

Lat/Long: N40.75 W72.975278.

Phone: 631-475-0790.

VHF Channel: 73.

Dates of Operation: April 1-November 1.

Hours of Operation: 8 a.m.-5 p.m.

Fee: $5.

Vessel Limitation Length/Draught: 45 feet/4 feet.

Method of Sewage Disposal: Waste emptied and disposed of by contractor.

Name: Brookhaven Town Pumpout Boats (2), these boats also service vessels in Bellport Bay and Moriches Bay—West.

Lat/Long: N/A.

Phone: N/A.

VHF Channel: 73.

Dates of Operation: April 1-November 1.

Hours of Operation: 8 a.m.-5 p.m.

Fee: $5.

Vessel Limitation Length/Draught: N/A.

Method of Sewage Disposal: Waste emptied and disposed of by contractor.

Name: Dockside Mobile Pumpout—pumpout boat and mobile truck

Lat/Long: N/A.

Phone: 631-447-1189.

VHF Channel: N/A.

Dates of Operation: All year.

Hours of Operation: 8 a.m.-5 p.m.

Fee: Varies based on location.

Vessel Limitation Length/Draught: N/A.

Method of Sewage Disposal: Waste emptied and disposed of by contractor.

Name: Morgan's Swan Marina.

Lat/Long: N40.7481 W72.99726.

Phone: 631-785-3524.

VHF Channel: 73.

Dates of Operation: Memorial Day-September.

Hours of Operation: Tuesday-Sunday, 10 a.m.-4 p.m.

Fee: $5.

Vessel Limitation Length/Draught: 34 feet/5 feet.

Method of Sewage Disposal: Waste emptied and disposed of by contractor.

Name: Watch Hill.

Lat/Long: N40.69147 W72.98933.

Phone: 631-597-3109.

VHF Channel: 9.

Dates of Operation: April 1-November 1.

Hours of Operation: 8 a.m.-5 p.m.

Fee: Free.

Vessel Limitation Length/Draught: 45 feet/4.5 feet.

Method of Sewage Disposal: Waste emptied and disposed of by contractor.

Name: Davis Park Marina.

Lat/Long: N40.68581 W73.00312.

Phone: 631-597-6830.

VHF Channel: 9.

Dates of Operation: Every day from the third week of May through the end of October.

Hours of Operation: 8 a.m.-9 p.m.

Fee: Free.

Vessel Limitation Length/Draught: 40 feet/3.5 feet.

Method of Sewage Disposal: Waste emptied and disposed of by contractor.

Name: Sandspit Marina.

Lat/Long: N40.74715 W73.01513.

Phone: 631-475-1592.

VHF Channel: 9.

Dates of Operation: May-November.

Hours of Operation: 24 hours a day.

Fee: Free.

Vessel Limitation Length/Draught: 35+ feet/2 feet.

Method of Sewage Disposal: Waste emptied and disposed of by contractor.

Name: Island View Marina.

Lat/Long: N40.75035 W73.01805.

Phone: 631-447-1234.

VHF Channel: N/A.

Dates of Operation: April 1-December 15.

Hours of Operation: Monday-Thursday 8 a.m.-6 p.m., Friday-Sunday 8a.m.-8 p.m.

Fee: $10.

Vessel Limitation Length/Draught: 65 feet/5 feet.

Method of Sewage Disposal: Waste emptied and disposed of by contractor.

Name: Leeward Cove Marina.

Lat/Long: N40.75619 W73.01926.

Phone: 631-654-3106.

VHF Channel: N/A.

Dates of Operation: All year.

Hours of Operation: 9 a.m.-5 p.m.

Fee: $1.00 (Coin operated).

Vessel Limitation Length/Draught: 50 feet/6 feet.

Method of Sewage Disposal: Cesspool.

Name: Blue Point Marina.

Lat/Long: N40.74679 W73.02737.

Phone: 631-363-6045.

VHF Channel: N/A.

Dates of Operation: May-November.

Hours of Operation: 24 hours.

Fee: Free.

Vessel Limitation Length/Draught: 32 feet/6 feet.

Method of Sewage Disposal: Waste emptied and disposed of by contractor.

Name: Browns River Marina.

Lat/Long: N40.7250 W73.0706.

Phone: 631-589-5550.

VHF Channel: N/A.

Dates of Operation: Year round.

Hours of Operation: 24 hours.

Fee: Free.

Vessel Limitation Length/Draught: 60 feet/6 feet.

Method of Sewage Disposal: Waste emptied and disposed of by contractor.

The facilities located in Nicoll Bay are as follow:

Name: West Sayville Boat Basin.

Lat/Long: N40.72117 W73.09324.

Phone: 631-589-4141.

VHF Channel: N/A.

Dates of Operation: All Year (self serve March 1-December 1).

Hours of Operation: 24 hours.

Fee: $5 (voluntary).

Vessel Limitation Length/Draught: None/5 feet.

Method of Sewage Disposal: Waste emptied and disposed of by contractor.

Name: Sailors Haven.

Lat/Long: N40.65714 W73.10440.

Phone: 631-597-6171.

VHF Channel: N/A.

Dates of Operation: May 15-October 15.

Hours of Operation: 24 hours.

Fee: Free.

Vessel Limitation Length/Draught: None/2.5 feet.

Method of Sewage Disposal: Waste emptied and disposed of by contractor.

Name: Timber Point East County Marina.

Lat/Long: N40.71273 W73.14414.

Phone: 631-854-0938.

VHF Channel: N/A.

Dates of Operation: June-October.

Hours of Operation: 7 a.m.-7 p.m.

Fee: Free.

Vessel Limitation Length/Draught: 40 feet/4.5 feet.

Method of Sewage Disposal: Waste emptied and disposed of by contractor.

Name: Heckster State Park.

Lat/Long: N40.70332 W73.14691.

Phone: 631-581-2100.

VHF Channel: N/A.

Dates of Operation: April 1-November 1.

Hours of Operation: 7 .a.m.-Sunset.

Fee: Free with entrance fee to park.

Vessel Limitation Length/Draught: None/3 feet.

Method of Sewage Disposal: Waste emptied and disposed of by contractor.

The facilities located in Great South Bay—East and Great Cove are as follows:

Name: Atlantique Marina.

Lat/Long: N40.64340 W73.17353.

Phone: 631-583-8610.

VHF Channel: 9.

Dates of Operation: When Marina is open during boating season.

Hours of Operation: 9 a.m.-6:30 p.m.

Fee: Free.

Vessel Limitation Length/Draught: None/10 feet.

Method of Sewage Disposal: Waste emptied and disposed of by contractor.

Name: East Islip Marina.

Lat/Long: N40.70744 W73.18954.

Phone: 631-224-5413.

VHF Channel: N/A.

Dates of Operation: During Marina Season.

Hours of Operation: 8 a.m.-4 p.m.

Fee: Free.

Vessel Limitation Length/Draught: None/6 feet.

Method of Sewage Disposal: Waste emptied and disposed of by contractor.

Name: Islip Pumpout Boat.

Lat/Long: N/A.

Phone: N/A.

VHF Channel: 73.

Dates of Operation: April 1-November 1.

Hours of Operation: 7 a.m.-Sunset.

Fee: Free.

Vessel Limitation Length/Draught: N/A.

Method of Sewage Disposal: Waste emptied and disposed of by contractor.

Name: Bay Shore Marina.

Lat/Long: N40.71276 W73.23727.

Phone: 631-224-5648.

VHF Channel: 73.

Dates of Operation: April 1-November 1.

Hours of Operation: 7 a.m.-Sunset.

Fee: Free.

Vessel Limitation Length/Draught: 30 feet/3 feet.

Method of Sewage Disposal: Waste emptied and disposed of by contractor.

Name: Captree State Park.

Lat/Long: N40.64208 W73.25290.

Phone: 631-321-3533.

VHF Channel: 73.

Dates of Operation: April 1-November 1.

Hours of Operation: 7 a.m.-Sunset.

Fee: Free.

Vessel Limitation Length/Draught: None/3 feet.

Method of Sewage Disposal: Waste emptied and disposed of by contractor.

Name: Robert Moses State Park.

Lat/Long: N40.62483 W73.26657.

Phone: 631-669-1000 or 631-669-0470.

VHF Channel: 73.

Dates of Operation: April 1-November 1.

Hours of Operation: 7 a.m.-sunset.

Fee: Free.

Vessel Limitation Length/Draught: None/3 feet.

Method of Sewage Disposal: Waste emptied and disposed of by contractor.

The facilities located in Great South Bay—West are as follows:

Name: Babylon Fishing Station.

Lat/Long: N40.686111 W73.31611.

Phone: 631-669-4503.

VHF Channel: 78.

Dates of Operation: April 1-December 1.

Hours of Operation: 8 a.m.-5 p.m.

Fee: $5.

Vessel Limitation Length/Draught: Unlimited/5 feet.

Method of Sewage Disposal: Waste pumped directly into the sewer system.

Name: Babylon Marine.

Lat/Long: N40.68646 W73.32479.

Phone: 631-587-0333.

VHF Channel: N/A.

Dates of Operation: Spring and Summer.

Hours of Operation: Monday-Saturday 8 a.m.-5 p.m., Sunday 9 a.m.-5 p.m.

Fee: Free with gas purchase, $10 without.

Vessel Limitation Length/Draught: None/4 feet.

Method of Sewage Disposal: Waste pumped directly into sewer system.

Name: Bergen Point Marina.

Lat/Long: N40.677222 W73.338056.

Phone: 631-957-7440.

VHF Channel: N/A.

Dates of Operation: May-November.

Hours of Operation: 24 hours/7 days.

Fee: Free.

Vessel Limitation Length/Draught: Unlimited.

Method of Sewage Disposal: Bergen Point STP.

Name: Cedar Beach Marina.

Lat/Long: N40.635156 W73.34457.

Phone: 631-669-5949.

VHF Channel: N/A.

Dates of Operation: Weekends beginning 2nd weekend of May, full-time June 28-Columbus Day.

Hours of Operation: 24 hours a day.

Fee: Free.

Vessel Limitation Length/Draught: 45 feet/14 feet.

Method of Sewage Disposal: Settling pools onsite, truck pumpout if necessary.

Name: Surfside 3 Marina.

Lat/Long: N40.66984 W73.35807.

Phone: 631-957-5900.

VHF Channel: N/A.

Dates of Operation: All Year.

Hours of Operation: 8 a.m.-8 p.m.

Fee: Free with gas purchase, $10 without.

Vessel Limitation Length/Draught: 50 feet/4 feet.

Method of Sewage Disposal: Waste pumped directly into sewer system.

Name: Boatland.

Lat/Long: N40.675556 W73.358611.

Phone: 631-957-5550.

VHF Channel: N/A.

Dates of Operation: April 1-October 1.

Hours of Operation: Monday-Thursday 8 a.m.-5 p.m., Friday-Sunday 7 a.m.-7 p.m.

Fee: $5.

Vessel Limitation Length/Draught: 50 feet/5 feet.

Method of Sewage Disposal: Waste pumped directly into sewer system.

Name: The Anchorage.

Lat/Long: N40.67066 W73.35812.

Phone: 631-225-5656.

VHF Channel: N/A.

Dates of Operation: April-October.

Hours of Operation: 9 a.m.-7 p.m.

Fee: $10.

Vessel Limitation Length/Draught: 60 feet/5 feet.

Method of Sewage Disposal: Waste emptied and disposed of by contractor.

Name: LaSala Boat Yard.

Lat/Long: N40.5931 W73.5403.

Phone: 516-623-5757.

VHF Channel: N/A.

Dates of Operation: Boating Season.

Hours of Operation: 8 a.m.-5 p.m.

Fee: Free.

Vessel Limitation Length/Draught: 40 feet/4 feet.

Method of Sewage Disposal: Waste pumped directly into sewer system.

Name: Tanner Park.

Lat/Long: N40.66023 W73.39365.

Phone: 631-789-4159.

VHF Channel: N/A.

Dates of Operation: Boating Season.

Hours of Operation: 24 hours a day.

Fee: Free.

Vessel Limitation Length/Draught: 60 feet/5 feet.

Method of Sewage Disposal: Waste emptied and disposed of by contractor.

Name: Gilgo Beach Marina.

Lat/Long: N40.61879 W73.39796.

Phone: 631-826-1255.

VHF Channel: N/A.

Dates of Operation: April 1-November 1.

Hours of Operation: Monday-Friday 8 a.m.-5 p.m., Saturday and Sunday 7 a.m.-7 p.m.

Fee: Free.

Vessel Limitation Length/Draught: 60 feet/4.5 feet.

Method of Sewage Disposal: Waste emptied and disposed of by contractor.

Name: Delmarine, Inc.

Lat/Long: N40.66333 W73.4225.

Phone: 631-598-2946.

VHF Channel: N/A.

Dates of Operation: Boating Season.

Hours of Operation: Monday-Friday 8 a.m.-5 p.m., Saturday 8 a.m.-12 p.m.

Fee: Available only to private slip users.

Vessel Limitation Length/Draught: N/A.

Method of Sewage Disposal: Waste pumped directly into sewer system.

The facilities located in South Oyster Bay are as follows:

Name: TOBAY Heading Marina.

Lat/Long: N40.615 W73.426667.

Phone: 516-679-3900.

VHF Channel: 16.

Dates of Operation: Memorial Day-October.

Hours of Operation: 9 a.m.-7 p.m.

Fee: Free.

Vessel Limitation Length/Draught: 45 feet/4 feet.

Method of Sewage Disposal: 2 cesspools and leaching field, pump truck if needed.

Name: Town of Oyster Bay Pumpout Boat.

Lat/Long: N/A.

Phone: 516-679-3900.

VHF Channel: 9.

Dates of Operation: Memorial Day-October.

Hours of Operation: 9 a.m.-7 p.m.

Fee: Free.

Vessel Limitation Length/Draught: N/A.

Method of Sewage Disposal: Empties at TOBAY Marina.

Name: Treasure Island Marine Basin Corp.

Lat/Long: N40.649444 W73.498056.

Phone: 516-221-7156.

VHF Channel: N/A.

Dates of Operation: April-November.

Hours of Operation: Weekdays 8 a.m.-5 p.m., Weekends 9 a.m.-4 p.m.

Fee: Free for customers, $20 otherwise.

Vessel Limitation Length/Draught: 35 feet/5 feet.

Method of Sewage Disposal: Waste pumped directly into sewer sytem.

Name: Precision Marina.

Lat/Long: N40.647222 W73.498611.

Phone: 516-785-3013.

VHF Channel: N/A.

Dates of Operation: April-November.

Hours of Operation: Summer 8 a.m.-6 p.m., Winter 8 a.m.-4 p.m.

Fee: $5.

Vessel Limitation Length/Draught: 35/5 feet.

Method of Sewage Disposal: Waste pumped directly into sewer system.

The facilities located in East Bay Complex are as follows:

Name: Wantagh County Park.

Lat/Long: N40.645556 W73.514722.

Phone: 516-571-7460.

VHF Channel: N/A.

Dates of Operation: April-November.

Hours of Operation: 24 hours a day.

Fee: Free.

Vessel Limitation Length/Draught: 40 feet/5 feet.

Method of Sewage Disposal: Waste pumped directly into sewer system.

Name: Blue Water Yacht Club.

Lat/Long: N40.5931 W73.5403.

Phone: 516-623-5757.

VHF Channel: N/A.

Dates of Operation: April-November.

Hours of Operation: 24 hours a day.

Fee: Free.

Vessel Limitation Length/Draught: 40 feet/5 feet.

Method of Sewage Disposal: Waste pumped directly into sewer system.

This facility services vessels in Western South Shore Bay, Middle Bay, and East Bay:

Name: Town of Hempstead Pumpout Boat.

Lat/Long: N/A.

Phone: 516-431-9200.

VHF Channel: 73.

Dates of Operation: Mid-May-October.

Hours of Operation: 9 a.m.-5 p.m.

Fee: Free.

Vessel Limitation Length/Draught: N/A.

Method of Sewage Disposal: Waste pumped into sewage treatment plant.

The facilities located in Middle Bay Complex are as follows:

Name: West End Boat Basin.

Lat/Long: N40.59056 W73.5556.

Phone: 516-785-1600.

VHF Channel: N/A.

Dates of Operation: April 1-October 15.

Hours of Operation: 9 a.m.-4:30 p.m.

Fee: Free.

Vessel Limitation Length/Draught: 50 feet/7 feet.

Method of Sewage Disposal: Waste emptied and disposed of by contractor.

Name: Al Grover's High and Dry.

Lat/Long: N40.64417 W73.57333.

Phone: 516-546-8880.

VHF Channel: N/A.

Dates of Operation: April-October.

Hours of Operation: 8 a.m.-5 p.m.

Fee: $40.

Vessel Limitation Length/Draught: 35 feet/7 feet.

Method of Sewage Disposal: Waste pumped directly into sewer system.

Name: Guy Lombardo Marina.

Lat/Long: N40.629444 W73.58.

Phone: 516-378-3417.

VHF Channel: N/A.

Dates of Operation: April 1-November 1.

Hours of Operation: 24 hours a day.

Fee: Free.

Vessel Limitation Length/Draught: None/5 feet.

Method of Sewage Disposal: Waste emptied and disposed of by contractor.

Name: Town of Hempstead East Marina.

Lat/Long: N40.59361 W73.584722.

Phone: 516-897-4128.

VHF Channel: N/A.

Dates of Operation: April-November.

Hours of Operation: Monday-Thursday 9 a.m.-5 p.m., Friday-Sunday 6 a.m.-6 p.m., Self service 24 hours a day.

Fee: Free.

Vessel Limitation Length/Draught: None/5 feet.

Method of Sewage Disposal: Waste emptied and disposed of by contractor.

Name: Empire Point Marina.

Lat/Long: N40.61556 W73.64889.

Phone: 516-889-1067.

VHF Channel: N/A.

Dates of Operation: Year round.

Hours of Operation: Self service 24 hours.

Fee: $5.

Vessel Limitation Length/Draught: 100 feet/30 feet.

Method of Sewage Disposal: Waste emptied and disposed of by contractor.

The facility located in Western South Shore Bay is as follows:

Name: Crow's Nest Marina.

Lat/Long: N40.63597 W73.6577.

Phone: 516-766-2020.

VHF Channel: N/A.

Dates of Operation: May-October, Monday-Friday.

Hours of Operation: 9 a.m.-4 p.m.

Fee: Free for marina patrons, $25 for visitors.

Vessel Limitation Length/Draught: 35 feet/4 feet.

Method of Sewage Disposal: Waste emptied and disposed of by contractor.

The EPA hereby makes a tentative affirmative determination that adequate facilities for the safe and sanitary removal and treatment of sewage from all vessels are reasonably available for the South Shore Estuary Reserve in the Counties of Nassau and Suffolk, New York. A 30-day period for public comment has been opened on this matter which may result in a New York State prohibition of any sewage discharges from vessels in for the South Shore Estuary Reserve in the Counties of Nassau and Suffolk, New York.

Dated: June 25, 2009.
George Pavlou,
Acting Regional Administrator, Region 2.

[FR Doc. E9-15796 Filed 7-2-09; 8:45 am]

BILLING CODE 6560-50-P